COMMITTEE FOR PURCHASE FROM PEOPLE WHO ARE BLIND OR SEVERELY DISABLED

Strategic Plan Notice

AGENCY: Committee for Purchase From People Who Are Blind or Severely Disabled.

ACTION: Request for comments on the agency's draft Strategic Plan for FY 2022-2026; reopening of comment period.

SUMMARY: The Commission is reopening the deadline for the submission of written comments in response to its March 18, 2022, draft Strategic Plan.

DATES: The comment period for the draft Strategic Plan, a non-rulemaking notice published March 18, 2022, at 87 FR 15412, is reopened. Initial written comments must now be received no later than 11:59 p.m. Eastern Time on April 30, 2022.

ADDRESSES: You may submit comments, identified by CPPBSD-2022-0003 only by the following method: Internet—Federal eRulemaking Portal. Electronic comments may be submitted through https://www.regulations.gov. To locate the document, use CPPBSD-2022-0003 or key words such as “Strategic Plan,” “Committee for Purchase,” or “AbilityOne,” to search documents accepting comments. Follow the instructions for submitting comments. Please be advised that comments received will be posted without change to https://www.regulations.gov, including any personal information provided.

Accessible Format: On request to the program contact person listed under FOR FURTHER INFORMATION CONTACT, individuals with disabilities can obtain this document in an alternative accessible format.

Electronic Access to This Document: The official version of this document is the document referenced in the Federal Register of March 18, 2022. You may access the official edition of the Federal Register at www.govinfo.gov. You may also access Commission documents published in the Federal Register by using the article search feature at: www.federalregister.gov.

FOR FURTHER INFORMATION CONTACT: Shelly Hammond, Director of Contracting and Policy, by telephone 571-457-9468 or by email at shammond@abilityone.gov.

During and after the comment period, you may inspect all public comments about the draft Strategic Plan by accessing Regulations.gov.

Assistance to Individuals With Disabilities in Reviewing the Draft Strategic Plan: Upon request, we will provide an appropriate accommodation to an individual with a disability who needs assistance to review the draft Strategic Plan. If you want to contact us to request assistance, please contact the person listed in this section.

SUPPLEMENTARY INFORMATION: On March 18, 2022, the Commission issued a request for comments on the agency's draft FY 2022-2026 Strategic Plan. To ensure that members of the public have sufficient time to comment, and to ensure the Commission has the benefit of a complete record, the Commission is reopening the deadline for submission of initial comments to no later than 11:59 p.m. Eastern Time on April 30, 2022.

Michael R. Jurkowski,
Acting Director, Business Operations.

[FR Doc. 2022-08616 Filed 4-21-22; 8:45 am]

BILLING CODE 6353-01-P